DEPARTMENT OF ENERGY

[FE Docket No. 18-70-LNG]

Change In Control; Mexico Pacific Limited LLC

AGENCY: Office of Fossil Energy, DOE.

ACTION: Notice of change in control.

SUMMARY: The Office of Fossil Energy (FE) of the Department of Energy (DOE) gives notice of receipt of a Notification Regarding Change in Control (Notification) filed by Mexico Pacific Limited LLC (MPL) in the above-referenced docket on November 18, 2019, and in a Supplement filed on January 14, 2020. The Notification and Supplement describe changes in MPL's ownership. The Notification and Supplement were filed under section 3 of the Natural Gas Act (NGA).

DATES: Protests, motions to intervene, or notices of intervention, as applicable, and written comments are to be filed using procedures detailed in the Public Comment Procedures section no later than 4:30 p.m., Eastern time, March 2, 2020.

ADDRESSES:

Electronic Filing by email: fergas@hq.doe.gov.

Regular Mail: U.S. Department of Energy (FE-34), Office of Regulation, Analysis, and Engagement, Office of Fossil Energy, P.O. Box 44375, Washington, DC 20026-4375.

Hand Delivery or Private Delivery Services (e.g., FedEx, UPS, etc.): U.S. Department of Energy (FE-34), Office of Regulation, Analysis, and Engagement, Office of Fossil Energy, Forrestal Building, Room 3E-042, 1000 Independence Avenue SW, Washington, DC 20585.

FOR FURTHER INFORMATION CONTACT:

Benjamin Nussdorf or Amy Sweeney, U.S. Department of Energy (FE-34), Office of Regulation, Analysis, and Engagement, Office of Fossil Energy, Forrestal Building, Room 3E-042, 1000 Independence Avenue SW, Washington, DC 20585, (202) 586-7893; (202) 586-2627, benjamin.nussdorf@hq.doe.gov or amy.sweeney@hq.doe.gov.

Cassandra Bernstein or Kari Twaite, U.S. Department of Energy (GC-76), Office of the Assistant General Counsel for Electricity and Fossil Energy, Forrestal Building, 1000 Independence Avenue SW, Washington, DC 20585, (202) 586-9793; (202) 586-6978, cassandra.bernstein@hq.doe.gov or kari.twaite@hq.doe.gov.

SUPPLEMENTARY INFORMATION:

Summary of Change in Control

The Notification states that, at the time MPL filed its application in this proceeding and through October 21, 2019, its membership interests were held by two entities: DKRW Energy Sonora Holding LLC and ACAP Sonora Energy LLC. MPL states that, by means of a transaction that closed effective as of October 22, 2019, its ownership has changed.

MPL states that it is now controlled by a consortium led by AVAIO Management LP (AVAIO Capital), which also includes funds managed by Tortoise Capital Advisors LLC. The three largest equity owners of MPL in terms of total ownership are AVAIO MPL SPV, LP (51.72%), ACAP Sonora Energy LLC (19.53%), and DKRW Energy Partners LLC (16.09%). MPL states that two of these entities, AVAIO MPL SPV, LP and DKRW Energy Partners LLC, increased their ownership percentages by more than 10%, as shown in Exhibit A to both the Notification and Supplement.

Additional details can be found in DECP's Notification and Supplement, posted on the DOE/FE website at: https://www.energy.gov/fe/mexico-pacific-limited-llc-mpl-fe-dkt-no-18-70-lng.

DOE/FE Evaluation

DOE/FE will review MPL's Notification and Supplement in accordance with its Procedures for Changes in Control Affecting Applications and Authorizations to Import or Export Natural Gas (CIC Procedures).¹ Consistent with the CIC Procedures, this notice addresses MPL's authorization to export liquefied natural gas (LNG) to non-free trade agreement (non-FTA) countries, granted in DOE/FE Order No. 4312 (FE Docket No. 18-70-LNG).² If no interested person protests the change in control and DOE takes no action on its own motion, the proposed change in control will be deemed granted 30 days after publication in the Federal Register. If one or more protests are submitted, DOE will review any motions to intervene, protests, and answers, and will issue a determination as to whether the proposed change in control has been demonstrated to render the underlying authorization inconsistent with the public interest.

¹ 79 FR 65541 (Nov. 5, 2014).

² MPL's Notification and Supplement also apply to its existing FTA authorization, but DOE/FE will respond to that portion of the documents separately pursuant to the CIC Procedures, 79 FR 65542.

Public Comment Procedures

Interested persons will be provided 15 days from the date of publication of this notice in the Federal Register in order to move to intervene, protest, and answer MPL's Notification and Supplement.³ Protests, motions to intervene, notices of intervention, and written comments are invited in response to this notice only as to the change in control described in MPL's Notification and Supplement. All protests, comments, motions to intervene, or notices of intervention must meet the requirements specified by DOE's regulations in 10 CFR part 590.

³ Intervention, if granted, would constitute intervention only in the change in control portion of this proceeding, as described herein.

Filings may be submitted using one of the following methods: (1) Preferred method: emailing the filing to fergas@hq.doe.gov; (2) mailing an original and three paper copies of the filing to the Office of Regulation, Analysis, and Engagement at the address listed in ADDRESSES; or (3) hand delivering an original and three paper copies of the filing to the Office of Regulation, Analysis, and Engagement at the address listed in ADDRESSES. All filings must include a reference to the individual FE Docket Number(s) in the title line, or Mexico Pacific Limited LLC Change in Control in the title line. Please Note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

MPL's Notification and Supplement, and any filed protests, motions to intervene, notices of intervention, and comments, are available for inspection and copying in the Office of Regulation, Analysis, and Engagement docket room, Room 3E-042, 1000 Independence Avenue SW, Washington, DC 20585. The docket room is open between the hours of 8:00 a.m. and 4:30 p.m., Monday through Friday, except Federal holidays.

MPL's Notification and Supplement, and any filed protests, motions to intervene, notices of intervention, and comments, will also be available electronically by going to the following DOE/FE Web address: http://www.fe.doe.gov/programs/gasregulation/index.html.

Signed in Washington, DC, on February 9, 2020.
Amy Sweeney,
Director, Office of Regulation, Analysis, and Engagement, Office of Oil and Natural Gas.

[FR Doc. 2020-03033 Filed 2-13-20; 8:45 am]

BILLING CODE 6450-01-P